NUCLEAR REGULATORY COMMISSION

Experts' Meeting on High-Burnup Fuel Behavior Under Postulated Accident Conditions

AGENCY: Nuclear Regulatory Commission.

ACTION: Notice of Meeting.

SUMMARY: The Nuclear Regulatory Commission will hold a meeting to develop Phenomena Identification and Ranking Tables (PIRTs). PIRTs have been used at NRC since 1988, and they provide a structured way to obtain a technical understanding that is needed to address certain issues. About twenty of the world's best technical experts are participating in this activity, and the experts represent a balance between industry, universities, foreign researchers, and regulatory organizations. The current PIRT activity is addressing a postulated BWR accident wherein power oscillations occur, the reactor fails to scram, and the oscillations then reach sufficient magnitude that fuel failure may occur before the emergency operating procedures are able to terminate the oscillations and shut the reactor down.

DATES: February 8-10, 2000, 8:30 am-5:30 pm.

ADDRESSES: Room T10A1 (TWFN) of the Nuclear Regulatory Commission, 11545 Rockville Pike, Rockville, MD.

FOR FURTHER INFORMATION CONTACT: Dr. Ralph Meyer, SMSAB, Division of Systems Analysis and Regulatory Effectiveness, Office of Nuclear Regulatory Research, Washington, DC 20555-0001, telephone (301) 415-6789.

SUPPLEMENTARY INFORMATION: The meeting agenda will be posted on the NRC Web site at www.nrc.gov/RES/meetings.html by February 1, 2000. The meeting is open to the public. Attendees will need to obtain a visitor badge at the TWFN building lobby.

Dated at Rockville, Maryland, this 10th day of January 2000.
For the Nuclear Regulatory Commission.
Charles E. Rossi,
Director, Division of Systems Analysis and Regulatory Effectiveness, Office of Nuclear Regulatory Research.

[FR Doc. 00-1176 Filed 1-18-00; 8:45 am]

BILLING CODE 7590-01-P